NATIONAL SCIENCE FOUNDATION

Agency Information Collection Activities; Proposed New Data Collection; Comment Request

AGENCY: National Science Foundation.

ACTION: Notice.

SUMMARY: The National Science Foundation (NSF) is announcing plans to establish clearance for an evaluation of the Teacher Professional Continuum (TPC) to assess how well the TPC program is meeting its intended goals. In accordance with the requirement of Section 3506(c)(2)(A) of the Paperwork Reduction Act of 1995, we are providing opportunity for public comment on this action. After obtaining and considering public comment, NSF will prepare the submission requesting OMB clearance of this collection for no longer than 3 years.

Comments: Comments are invited on: (a) Whether the proposed collection of information is necessary for the proper performance of the functions of the agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by June 6, 2006 to be assured of consideration. Comments received after that date would be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton at (703) 292-7556 or send e-mail to splimpto@nsf.gov. Individuals who use a telecommunications device for the deaf (TDD) may call the Federal Information Relay Service (FIRS) at 1-800-877-8339 between 8 a.m. and 8 p.m., Eastern time, Monday through Friday.

SUPPLEMENTARY INFORMATION: Request for Clearance for Program Evaluation of the National Science Foundation's (NSF) Teacher Professional Continuum (TPC).

Title of Collection: Evaluation of the National Science Foundation's Teacher Professional Continuum (TPC) Program.

OMB Control No.: 3145-NEW.

Expiration Date of Approval: Not applicable.

1. Abstract

The National Science Foundation (NSF) requests a three-year clearance for research, evaluation and data collection (e.g. surveys and interviews) from stakeholders in the Teacher Professional Continuum (TPC) Program. TPC stakeholders typically are limited to faculty and administrators from universities and not-for-profit institutions (e.g., museums, non-degree granting educational or research institutions), K-12 educators, and former NSF employees and intergovernmental personnel act (IPA) appointees. This data collection will be the first time the NSF has evaluated the TPC Program.

K-12 Science, Technology, Engineering, and Mathematics (STEM) teachers and pre-service teacher candidates have inadequate content knowledge and experience high rates of teacher turnover that threaten student learning and the STEM teacher workforce. The current STEM knowledge base and infrastructure is ill equipped to respond to this crisis. In response, the TPC Program is designed to expand research on effective STEM teaching and teacher learning; develop professional resources for STEM teachers and those who educate them; and strengthen the infrastructure that supports the STEM profession. Recognizing that teacher professional development is comprised of a sequence of experiences that spans teachers' professional careers, the TPC program awards grants to researchers addressing pre-service training, new teacher induction, and in-service professional development. For specific details and the most updated information regarding TPC program operations, please visit the NSF Web site at: http://www.nsf.gov/funding/pgm_summ.jsp?pims_id=12785=ESIE&from=home.

Abt Associates Inc. has been awarded a three-year contract to assess how well the TPC program is meeting its intended goals and to examine the program's contribution to the knowledge base for each stage of the teacher professional continuum. This theory-based evaluation will construct a conceptual model outlining how the TPC Program is intended to work, and then use a mixed-methods approach to assess observed program implementation and outcomes against the desired model. The study will answer the questions: (1) How does the TPC program work? (2) How are TPC resources allocated and what is the relationship between allocated resources and project results? (3) To what extent is the TPC program meeting its stated outcomes of expanding research on effective STEM teaching and teacher learning, developing professional resources of STEM teachers and those who educate them, and strengthening the STEM education infrastructure? (4) What has facilitated the accomplishment or progress towards outcomes?

A series of surveys and interviews will be employed to answer these questions, along with the visits. Data sources will include a review of literature and resources, a review of grantee portfolios (including proposals, products and annual reports), surveys of TPC Principal Investigators (PIs), interviews with PIs and other grant staff, and extend grant documentation.

NSF will use the TPC program evaluation data and analyses to respond to requests from Committees of Visitors (COV), Congress and the Office of Management and Budget, particularly as related to the Government Performance and Results Act (GPRA) and the Program Effectiveness Rating Tool (PART). NSF will also use the program evaluation to improve communication with TPC stakeholders and to share the broader impacts of the TPC program with the general public.

Respondents: Individuals or households, business or other for profit, and not-for-profit institutions.

Estimated Number of Respondents: 143.

Burden on the Public: 1100 hours.

Dated: April 3, 2006.
Suzanne H. Plimpton,
Reports Clearance Officer, National Science Foundation.

[FR Doc. 06-3334 Filed 4-6-06; 8:45 am]

BILLING CODE 7555-01-M